DEPARTMENT OF LABOR

Employment and Training Administration

Notice of Determinations Regarding Eligibility to Apply for Worker Adjustment Assistance and NAFTA Transitional Adjustment Assistance

In accordance with section 223 of the Trade Act of 1974, as amended, the Department of Labor herein presents summaries of determinations regarding eligibility to apply for trade adjustment assistance for workers (TA-W) issued during the period of June and July, 2001.

In order for an affirmative determination to be made and a certification of eligibility to apply for worker adjustment assistance to be issued, each of the group eligibility requirements of section 222 of the Act must be met.

(1) That a significant number of proportion of the workers in the workers' firm, or an appropriate subdivision thereof, have become totally or partially separated;

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-39,000; American Nickeloid Co., Walnutport, PA

TA-W-39,008; Camrose Technologies, LLC, Ada, OK

TA-W-38,832; Decatur Casting, Decatur, IN

TA-W-39,989; Trico Steel Co., Decatur, AL

TA-W-39,094; Antec Corp., Network Powering and Enclosures, El Paso, TX

In the following cases, the investigation revealed that the criteria for eligibility have not been met for the reasons specified.

Increased imports did not contribute importantly to worker separations at the firm.

TA-W-39,456; Huck Fasteners, Altoona, PA

TA-W-39,145; Marathon Oil Co., Regional Office, Tyler, TX

TA-W-38,645; Texel USA. Inc., Henderson, NC

TA-W-38,954; Omicron Industries, Inc., El Paso, TX

TA-W-39,159; & Al; Anderson Electrical Products, Aluminum Casting Dept., Elkton, TN and Anderson Electrical Products, Aluminum Finishing & Inspection Dept, Elkton, TN

TA-W-39,426; Donna Lynn Fashions, Inc., Bronx, NY

TA-W-39,427; Lori Lynn Fashions, Inc., Bronx, NY

TA-W-39,428; Giordano Fashions, Limited, Woodside, NY

The workers firm does not produce an article as required for certification under Section 222 of the Trade Act of 1974

TA-W-39,490; Sagebrush Corp., Caledonia, MN

TA-W-39,468; Veco Alaska,Inc., Anchorage, AK

The investigation revealed that criteria (1) has not been met. A significant number of proportion of the workers did not become totally or partially separated from employment as required for certification.

TA-W-39,119; Wire Maid Manufacturing Limited, Schofield, WI

The investigation revealed that criteria (2) has not been met. Sales or production did not decline during the relevant period as required for

TA-W-39,464; Corning Frequency Control, Mt Holy Springs, PA

Affirmative Determination for Worker Adjustment Assistance

The following certification have been issued; the date following the company name and location of each determination references the impact date for all workers of such determination.

TA-W-39,250; Pilkington Libbey-Owens-Ford,North America OE Automotive, Sherman, TX: June 24, 2001.

TA-W-38,938 & A, B; Fruit of The Loom, Winfield Cotton Mill, Winfield, AL, Aliceville Cotton Mill, Aliceville, Al and Martin Mills, Inc., St. Martinville, LA: March 5, 2000.

TA-W-39,289; Shieldalloy Metallurgical Corp., Newfield, NJ: April 23, 2000.

TA-W-39,124; United Foundries, Youngstown, OH: April 16, 2000.

TA-W-39,421; Dunbrooke Industries, Inc., Canton, SD: May 17, 2000.

TA-W-39,496; Master Products Manufacturing Co., Martin Yale Industries, Inc., Los Angeles, CA: June 1, 2000.

TA-W-39,300 & A; Nokia, Inc., Nokia Mobile Phones, Alliance Gateway and Temporary Workers of Remedy Intelligent Staffing, Forth Worth TX and Nokia, Inc., Nokia Mobile Phones, Trinity Bouldvand and Temporary Workers of Remedy Intelligent Staffing, Forth Worth, TX: May 7, 2000.

TA-W-39,239; D'Clase Cutting Services L.C., Medley, FL: April 26, 2000.

TA-W-38,957; Nu-Kote International, Franklin, TN: March 20, 2000.

TA-W-39,196; J.C. Viramontes, Inc., d/b/a/ International Garment Processors, El Paso, TX: May 30, 2000.

TA-W-38,754; Westpoint Stevens, Inc., Rosemary Plants, Roanoke Rapids, NC: February 15, 2000.

TA-W-39,170; Standard Corp., Manufacturing Group, Lugoff, SC: April 10, 2000.

TA-W-39,912; Co-Steel, Perth Amboy, NJ: February 20, 2001.

TA-W-39,195; Tyco Electronics, Harrisonburg, VA: May 7, 2000.

TA-W-39,369; Hager Hinge Co., Greenville, MS: May 16, 2000.

TA-W-39,018; Alamac Knit Fabrics, Inc., Lumberton, NC: May 26, 2001.

TA-W-39,018A & B; Alamac Knit Fabrics, Inc., New York, NY and Los Angeles, CA: March 30, 2000.

TA-W-39,402 & A; Phelps Dodge Corp., Chino Mines Co., Hurley, NM: June 4, 2000 and Santa Rita, NM: May 12, 2001.

TA-W-38,840; Globe Manufacturing Corp., Spandex Operations, Fall River, MA: February 12, 2000.

TA-W-38,994; Irwin Manufacturing Corp., Ocilla, GA: March 26, 2000.

TA-W-39,270; Bemis Co., Inc., Vancouver, WA: May 3, 2000.

TA-W-39,204; A-1 Manufacturing, Inc., Brilliant, AL: April 16, 2000.

TA-W-39,353; Double Springs Corp., Double Springs, AL: May 14, 2000.

TA-W-38,927; Cascade Steel, McMinnville, OR: March 19, 2000.

TA-W-38,936; Fruit of The Loom, Greenville Manufacturing, Greenville, MS: March 5, 2000.

TA-W-39,231; Saturn Electronics and Engineering, Inc., Marks, MS: April 17, 2000.

TA-W-39,293; Innovo, Inc., Innovo Group, Inc., Knoxville, TN: May 2, 2000.

TA-W-39,562; ADC Mersum US, Inc., South Hackensack, NJ: June 13, 2000.

Also, pursuant to Title V of the North American Free Trade Agreement Implementation Act (Pub L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of June and July, 2001.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determination NAFTA-TAA

In each of the following cases the investigation revealed that criteria (3) and (4) were not met. Imports from Canada or Mexico did not contribute importantly to workers' separations. There was no shift in production from the subject firm to Canada or Mexico during the relevant period.

NAFTA-TAA-04717; Omicron Industries, Inc., El Paso, TX

NAFTA-TAA-04949; Z Z Logging, Inc., Mt. Hood, OR

NAFTA-TAA-04947; Huck Fasteners, Altoona, PA

NAFTA-TAA-04910; Shieldalloy Metallurgical Corp., Newfield, NJ

NAFTA-TAA-04582; Pangborn Corp., Hagerstown, MD

The investigation revealed that the criteria for eligibility have not been met for the reasons specified.

The workers firm does not produce an article as required for certification under Section 222 of the Trade Act of 1974.

NAFTA-TAA-05016; Sagebrush Corp., Caledonia, MN

The investigation revealed that criteria (2) and (4) have not been met. Sales or production, or both, did not decline during the relevant period as required for certification. There was no shift in production from the subject firm to Canada or Mexico.

NAFTA-TAA-04923; Corning Frequency Control, Mt. Holy Springs, PA

Affirmative Determinations NAFTA-TAA

NAFTA-TAA-04791; Southwire Co., Arkansas Plant, Osceola, AR: April 12, 2000.

NAFTA-TAA-04798; Tyco Electronics, Shewsbury Molding Plant, Shrewsbury, PA: April 20, 2000.

NAFTA-TAA-04905 & A; Anderson Electrical Products, Aluminum Casting Department Elkton, TN and Aluminum Finishing and Inspection Department, Elkton, TN: April 6, 2000.

NAFTA-TAA-04864; Bemis Co., Inc., Vancouver, WA: May 3, 2000.

NAFTA-TAA-05020; D'Clase Cutting Services L.C., Medley, FL: May 22, 2000.

NAFTA-TAA-04998; BASF Corp., NLD Div., Rensselaer, NY: May 21, 2000.

NAFTA-TAA-04950; Pilkington Libbey-Owens-Ford, North American OE Automotive, Sherman, TX: June 24, 2001.

NAFTA-TAA-04748; Antec Corp., Network Powering and Enclosures, El Paso, TX: March 28, 2000.

NAFTA-TAA-04989; Master Products Manufacturing Company, Martin Yale Industries, Inc., Los Angeles, CA: June 1, 2000.

NAFTA-TAA-05010; ADC Mersum US, Inc., South Hackensack, NJ: June 13, 2000.

NAFTA-TAA-04839; Emerson Electric Company, White-Rodgers Div., Affton, MO: April 11, 2000.

NAFTA-TAA-04971; Martin Mills, Inc., A Div. of Fruit of The Loom, St. Martinville, LA: May 8, 2000.

NAFTA-TAA-04695; J.C. Viramontes, Inc., d/b/a International Garment Processors, El Paso, TX: May 30, 2000.

I hereby certify that the aforementioned determinations were issued during the month of June and July, 2001. Copies of these determinations are available for inspection in Room C-5311, U.S. Department of Labor, 200 Constitution Avenue, NW., Washington, DC 20210 during normal business hours or will be mailed to persons who write to the above address.

Edward A. Tomchick,
Director, Division of Trade Adjustment Assistance.

[FR Doc. 01-18151 Filed 7-19-01; 8:45 am]

BILLING CODE 4510-30-M